DEPARTMENT OF THE INTERIOR

National Park Service

[NPS-WASO-NAGPRA-19926; PPWOCRADN0-PCU00RP14.R50000]

Notice of Inventory Completion: Shiloh Museum of Ozark History, Springdale, AR

AGENCY: National Park Service, Interior.

ACTION: Notice.

SUMMARY: The Shiloh Museum of Ozark History has completed an inventory of human remains and associated funerary objects in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Shiloh Museum of Ozark History. If no additional requestors come forward, transfer of control of the human remains to the Indian tribes or Native Hawaiian organizations stated in this notice may proceed.

DATES: Representatives of any Indian tribe or Native Hawaiian organization not identified in this notice that wish to request transfer of control of these human remains and associated funerary objects should submit a written request with information in support of the request to the Shiloh Museum of Ozark History at the address in this notice by February 8, 2016.

ADDRESSES: Carolyn Reno, Shiloh Museum of Ozark History 118 W. Johnson Avenue, Springdale, AR 72764, telephone (479) 750-8165, email creno@springdalear.gov.

SUPPLEMENTARY INFORMATION: Notice is here given in accordance with the Native American Graves Protection and Repatriation Act (NAGPRA), 25 U.S.C. 3003, of the completion of an inventory of human remains and associated funerary objects under the control of the Shiloh Museum of Ozark History, Springdale, AR. The human remains and associated funerary objects were removed from a rock shelter on the Graham farm near Butler Ford, Benton County, AR, in 1923.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Shiloh Museum of Ozark History professional staff in consultation with representatives of The Osage Nation (previously listed as the Osage Tribe).

History and Description of the Remains

In 1923, human remains representing, at minimum, two individuals were removed from a rock shelter on the Graham farm near Butler Ford, Benton County, AR. The human remains were purchased by the Shiloh Museum as part of the William Guy Howard Collection of Native American and pre-historic materials in 1966. One set of human remains consists of a skull, femur, and sternum (cataloged as S-66-1-116-1 through 3). The skull of a dog (cataloged as S-66-1-116-4) is associated with the human remains. Another set of human remains consists of a skull and two femurs (cataloged as S-66-1-490 1 through 3). There is no lineal descendent or culturally affiliated contemporary Indian tribe that can be determined. No known individuals were identified. The one associated funerary object is the skull of a dog.

Determinations Made by the Shiloh Museum of Ozark History

Officials of the Shiloh Museum of Ozark History have determined that:

• Pursuant to 25 U.S.C. 3001(9), the human remains described in this notice are Native American based on determination of burial in a rock shelter.

• Pursuant to 25 U.S.C. 3001(9), the human remains described in this notice represent the physical remains of, at minimum, two individuals of Native American ancestry.

• Pursuant to 25 U.S.C. 3001(3)(A), the dog skull described in this notice is reasonably believed to have been placed with or near individual human remains (S-66-1-116) at the time of death or later as part of the death rite or ceremony.

• Pursuant to 25 U.S.C. 3001(2), a relationship of shared group identity cannot be reasonably traced between the Native American human remains and associated funerary objects and any present-day Indian tribe.

• Pursuant to 25 U.S.C. 3001(15), the land from which the Native American human remains and associated funerary object were removed is the tribal land of The Osage Nation (previously listed as the Osage Tribe).

• According to final judgments of the Indian Claims Commission or the Court of Federal Claims, the land from which the Native American human remains and associated funerary objects were removed is the aboriginal land of The Osage Nation (previously listed as the Osage Tribe).

• Treaties, Acts of Congress, or Executive Orders, indicate that the land from which the Native American human remains and associated funerary objects were removed is the aboriginal land of The Osage Nation (previously listed as the Osage Tribe).

• Pursuant to 43 CFR 10.11(c)(1), the disposition of the human remains and associated funerary objects may be to The Osage Nation (previously listed as the Osage Tribe).

Additional Requestors and Disposition

Representatives of any Indian tribe or Native Hawaiian organization not identified in this notice that wish to request transfer of control of these human remains and associated funerary objects should submit a written request with information in support of the request to Carolyn Reno, Shiloh Museum of Ozark History, 118 W. Johnson Avenue, Springdale, AR 72764, telephone (479) 750-8165, email creno@springdalear.gov, by February 8, 2016. After that date, if no additional requestors have come forward, transfer of control of the human remains and associated funerary objects to The Osage Nation (previously listed as the Osage Tribe) may proceed.

The Shiloh Museum of Ozark History is responsible for notifying The Osage Nation (previously listed as the Osage Tribe) that this notice has been published.

Dated: December 8, 2015.
Amberleigh Malone,
Acting Manager, National NAGPRA Program.

[FR Doc. 2016-00069 Filed 1-6-16; 8:45 am]

BILLING CODE 4312-50-P